DEPARTMENT OF DEFENSE

Defense Acquisition Regulations System

[Docket Number DARS-2022-0020; OMB Control Number 0750-0005]

Information Collection Requirements; Defense Federal Acquisition Regulation Supplement; Part 225, Disclosure of Employment of Individuals Who Work in the People's Republic of China

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by March 1, 2023.

SUPPLEMENTARY INFORMATION:

Title and OMB Number: Defense Federal Acquisition Regulation Supplement (DFARS) Part 225, Disclosure of Employment of Individuals Who Work in the People's Republic of China; OMB Control Number 0750-0005.

Type of Request: Extension of a currently approved collection.

Affected Public: Businesses or other for-profit and not-for-profit institutions.

Respondent's Obligation: Required to obtain or retain benefits.

Number of Respondents: 30.

Annual Responses: 50.

Annual Burden Hours: 50.

Reporting Frequency: On Occasion.

Needs and Uses: This information collection implements section 855 of the National Defense Authorization Act (NDAA) for Fiscal Year (FY) 2022 (Pub. L. 117-81, 10 U.S.C. 4651 note prec.). DoD uses the information obtained through this collection to ensure compliance with the statute as follows:

DFARS 252.225-7057, Preaward Disclosure of Employment of Individuals Who Work in the People's Republic of China. The offeror's disclosure is required when the offeror submits a proposal in response to a solicitation for a contract or subcontract with a value in excess of $5 million, excluding contracts for commercial items. The solicitation provision requires the offeror to disclose their proposed use of workforce and facilities in the People's Republic of China, if the offeror employs one or more individuals who will perform work in the People's Republic of China. The offeror will provide their disclosure in writing.

DFARS 252.225-7058, Postaward Disclosure of Employment of Individuals Who Work in the People's Republic of China. Before renewing a covered contract, the contractor's recurring postaward disclosure is required from covered entities for fiscal years 2023 and 2024, to disclose if the contractor employs one or more individuals who perform work in the People's Republic of China. The disclosure must include the total number of individuals who will perform work in the People's Republic of China on the contract and a description of the exact street location of the physical presence in China where the work on the contract will be performed.

DoD uses this information to provide the congressional defense committees with briefings that summarize the disclosures received from offerors and contractors, in accordance with section 855 of the NDAA for FY 2022.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: https://www.regulations.gov. Follow the instructions for submitting comments.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2023-01850 Filed 1-27-23; 8:45 am]

BILLING CODE 5001-06-P